DEPARTMENT OF LABOR

Employment and Training Administration

[TRA-W-37,964 and TA-W-37,964B]

Hampton Industries Kinston, NC and New York, NY; Amended Certification Regarding Eligibility To Apply for Worker Adjustment Assistance

In accordance with section 223 of the Trade Act of 1974 (19 U.S.C. 2273) the Department of Labor issued a Notice of Certification Regarding Eligibility to Apply for Worker Adjustment Assistance on October 11, 2000, applicable to workers of Hampton Industries, Kinston, North Carolina. The notice was published in the Federal Register on November 1, 2000 (65 FR 65330).

At the request of the petitioners, the Department reviewed the certification for workers of the subject firm. The company reports that worker separations occurred at the New York, New York location of the subject firm. The New York, New York location provided administrative services supporting the production of men's and boy's woven and knit shirts at the Kinston, North Carolina facility of the subject firm.

Based on these findings, the Department is amending the certification to include workers of Hampton Industries, New York, New York.

The intent of the Department's certification is to include all workers of Hampton Industries who were adversely affected by increased imports of men's and boy's woven and knit shirts.

The amended notice applicable to TA-W-37,964 is hereby issued as follows:

All workers of Hampton Industries, Kinston, North Carolina (TA-W-37,964) and Hampton Industries, New York, New York (TA-W-37,964B) who became totally or partially separated from employment on or after July 20, 1999, through October 11, 2002, are eligible to apply for adjustment assistance under Section 223 of the Trade Act of 1974.

Signed at Washington, DC, this 21st day of December, 2001.
Linda G. Poole,
Certifying Officer, Division of Trade Adjustment Assistance.

[FR Doc. 02-2345 Filed 1-30-02; 8:45 am]

BILLING CODE 4510-30-M